DEPARTMENT OF TRANSPORTATION

Federal Railroad Administration

[Docket No. FRA 2001-9972; Formerly FRA Docket No. 87-2, Notice No. 12]

RIN 2130-AB20

Automatic Train Control (ATC) and Advanced Civil Speed Enforcement System (ACSES); Northeast Corridor (NEC) Railroads

AGENCY: Federal Railroad Administration (FRA), Department of Transportation (DOT).

ACTION: Amendment to Order of Particular Applicability Requiring ACSES Between New Haven, Connecticut and Boston, Massachusetts—Extension of Time Within Which CSX Transportation (CSXT) is Required to Complete Software Testing.

SUMMARY: FRA amends its Order of Particular Applicability requiring all trains operating on the Northeast Corridor (NEC) between New Haven, Connecticut and Boston, Massachusetts (NEC—North End) to be equipped to respond to the new Advanced Civil Speed Enforcement System (ACSES) system. This amendment extends the date by which CSXT must complete testing of new Amtrak operational software on three CSXT ACSES-equipped locomotives from September 16, 2001, to March 16, 2002. This action is necessary because of delays in the development of the software, which will be used to support more efficient operations.

DATES: The amendments to the Order are effective November 16, 2001.

FOR FURTHER INFORMATION CONTACT: W. E. Goodman, Staff Director, Signal and Train Control Division, Office of Safety, Mail Stop 25, FRA, 1120 Vermont Avenue, NW., Washington, DC 20590 ((202) 493-6325); Paul Weber, Railroad Safety Specialist, Signal and Train Control Division, Office of Safety, Mail Stop 25, FRA, 1120 Vermont Avenue, NW., Washington, DC 20590 ((202) 493-6258); or Patricia V. Sun, Office of Chief Counsel, Mail Stop 10, 1120 Vermont Avenue, NW., Washington, DC 20590 ((202) 493-6038).

For instructions on how to use this system, visit the Docket Management System Web Site and click on the “Help” menu. This docket is also available for inspection or copying at room PL-401 on the plaza level of the Nassif Building at the U.S. Department of Transportation, 400 7th Street, SW., Washington, DC 20590-0001, during regular business hours.

SUPPLEMENTARY INFORMATION: The Order of Particular Applicability, as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) on the NEC—North End to be controlled by locomotives equipped to respond to ACSES by October 1, 1999. In four later notices, FRA amended the Order to reset the implementation schedule and make technical changes. 64 FR 54410, October 6, 1999; 65 FR 62795, October 19, 2000; 66 FR 1718, January 9, 2001; and 66 FR 34512, June 28, 2001.

Background

FRA is making the amendment to this Order effective upon publication instead of 30 days after the publication date in order to realize the significant safety and transportation benefits afforded by the ACSES system at the earliest possible time. All affected parties have been notified.

FRA is not reopening the comment period since the sole amendment to this Order is to extend temporary operating protocols for CSXT that had expired on September 16, 2001. The amendment allows these protocols to remain effective until March 16, 2002. This amendment will be effective for fewer than six months and is necessary to avoid disruption of rail service. Under these circumstances, delaying the effective date of the amendment to allow for notice and comment would be impracticable, unnecessary, and contrary to the public interest. FRA will continue to monitor the progress of CSXT towards equipping and maintaining sufficient units to run all trains with operative ACSES.

Extension of CSXT Software Testing Requirement

On June 28, 2001, in Notice No. 11, FRA granted CSXT a relief period from the implementation schedule specified in the Order. During this relief period, which expired on September 16, 2001, CSXT was expected to test new Amtrak operational software on three CSXT ACSES-equipped locomotives. The testing's purpose was to help CSXT adapt Amtrak's control software system to the needs of freight service. CSXT was then required to monitor the performance of these locomotives for mechanical and operational problems and, once the software had been approved, to install the approved software on the remaining CSXT locomotives.

The production, delivery and testing of the software have been delayed, and the relief period for CSXT must be extended. FRA is therefore extending the date by which CSXT must complete software testing to March 16, 2002 since Amtrak is still in the process of developing its new operational software.

Other than the extension for software testing explained above, the temporary operating protocols specified in Notice No.11 remain in effect without change. Including this amendment, FRA has granted five requests for relief from the Order's original timetable. FRA therefore expects all affected parties to commit fully to the extended deadlines set out in the amended implementation schedule. Any additional requests for relief must be thoroughly documented and justified.

Issued in Washington, DC on November 9, 2001.
Allan Rutter,
Federal Railroad Administrator.

[FR Doc. 01-28731 Filed 11-15-01; 8:45 am]

BILLING CODE 4910-06-P